DEPARTMENT OF TRANSPORTATION

Federal Railroad Administration

Notice of Closing of Funding Availability and Request for Comments for the Capital Assistance to States—Intercity Passenger Rail Service Program for Fiscal Year 2008

AGENCY: Federal Railroad Administration (FRA), Department of Transportation (DOT).

ACTION: Closing of Funding Availability and Request for Comments.

SUMMARY: On February 19, 2008, FRA issued a Notice of Funding Availability and Solicitation of Applications for the Capital Assistance to States—Intercity Passenger Rail Service Program for Fiscal Year (FY) 2008. On September 30, 2008, DOT announced the selection of awardees for the available FY 2008 funding. Therefore, FRA is now announcing that it will no longer be accepting applications for awards of the FY 2008 funding. FRA is also requesting, in preparation for a possible FY 2009 Notice of Funding Availability and Solicitation of Applications, that past and prospective applicants (or associations representing past and prospective applicants) submit comments regarding their experience with the program and suggestions for possible improvements.

DATES: Comments should be submitted no later than December 5, 2008.

ADDRESSES: Past and prospective applicants (or associations representing past and prospective applicants) may submit comments identified by the docket number FRA-2008-0115 by any of the following methods:

• Federal eRulemaking Portal: http://www.regulations.gov. Follow the instructions for submitting comments.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590.

• Fax: 1-202-493-2251.

Instructions: All submissions must include the agency name and docket number (FRA-2008-0115) for this program. Note that all comments received will be posted, without change, to http://www.regulations.gov, including any personal information. Please see the Privacy Act heading in the SUPPLEMENTARY INFORMATION section of this document for Privacy Act information related to any submitted comments or materials. Internet users may access comments received by DOT at http://www.regulations.gov.

FOR FURTHER INFORMATION CONTACT: Peter Schwartz, Office of Railroad Development (RDV-11), Federal Railroad Administration, 1200 New Jersey Avenue, SE., Washington, DC 20590. Phone: (202) 493-6360; Fax: (202) 493-6330.

SUPPLEMENTARY INFORMATION: FRA anticipates that it will publish during the second quarter of FY 2009 a Notice of Funding Availability and Solicitation of Applications for the Capital Assistance to States—Intercity Passenger Rail Service Program for funding made available for FY 2009. In preparation for such an announcement, FRA is requesting that past and prospective applicants submit comments regarding their experience with the program during FY 2008 and their suggestions for possible improvements. Those interested in submitting comments should do so by the methods specified in the ADDRESSES heading above no later than December 5, 2008.

Privacy Act: Anyone is able to search the electronic form of all comments received into any of FRA's dockets by the name of the individual submitting the comment (or signing the comment, if submitted on behalf of a State, association, business, or labor union). You may review DOT's complete Privacy Act Statement in the Federal Register published on April 11, 2000 (65 FR 19477-78), or you may visit http://DocketsInfo.dot.gov.

Issued in Washington, DC, on October 8, 2008.
Mark E. Yachmetz,
Associate Administrator for Railroad Development.

[FR Doc. E8-24524 Filed 10-14-08; 8:45 am]

BILLING CODE 4910-06-P